DEPARTMENT OF ENERGY

Federal Energy Regulatory Commission

[Docket No. RP08-59-000]

Columbia Gas Transmission Corporation; Notice of Technical Conference

December 13, 2007.

The Commission's December 5, 2007 order in the above captioned proceeding ¹ directed that a technical conference be held to address the issues raised by Columbia Gas Transmission Corporation's (Columbia Gas) November 7, 2007 filing proposing to modify its existing SIT Rate Schedule.

¹ Columbia Gas Transmission Corp., 121 FERC ¶ 61,232 (2007).

Take notice that the Commission will convene a technical conference on Thursday, January 31, 2008, at 10 a.m. (EST), in a room to be designated at the offices of the Federal Energy Regulatory Commission, 888 First Street, NE., Washington, DC 20426.

Commission Staff and parties will have the opportunity to discuss all of the issues raised by Columbia Gas' proposals to modify its SIT Rate Schedule. Specifically, Columbia Gas should be prepared to address all the concerns raised in the protests, and if necessary, to provide additional technical, engineering, and operational support for its proposals. Any party proposing alternatives to Columbia Gas's proposals should also be prepared to similarly support its position.

FERC conferences are accessible under section 508 of the Rehabilitation Act of 1973. For accessibility accommodations, please send an e-mail to accessibility@ferc.gov or call toll free (866) 208-3372 (voice) or 202-502-8659 (TTY), or send a fax to 202-208-2106 with the required accommodations.

All interested persons are permitted to attend. For further information, please contact Eugene Kim at (202) 502-6858 or e-mail Eugene.Kim@ferc.gov.

Kimberly D. Bose,
Secretary.

[FR Doc. E7-24658 Filed 12-19-07; 8:45 am]

BILLING CODE 6717-01-P